ENVIRONMENTAL PROTECTION AGENCY

[FRL-9645-7]

Notice of Proposed Administrative Settlement Pursuant to the Comprehensive Environmental Response, Compensation, and Liability Act

AGENCY: Environmental Protection Agency.

ACTION: Notice; request for public comment.

SUMMARY: In accordance with Section 122 (i) of the Comprehensive Environmental Response, Compensation, and Liability Act, as amended (“CERCLA”), 42 U.S.C. 9622(i), notice is hereby given of a proposed administrative settlement concerning the Arkansas Waste to Energy Superfund Site, located in Osceola, Mississippi County, Arkansas.

The settlement requires the six (6) settling parties to pay a total of $118,503.00 as payment of response costs to the Hazardous Substances Superfund, as well as remove the remaining 708 drums still onsite. The settlement includes a covenant not to sue pursuant to Section 106 and 107 of CERCLA, 42, U.S.C. 9606 and 9607.

For thirty (30) days following the date of publication of this notice, the Agency will receive written comments relating to this notice and will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas 75202-2733.

DATES: Comments must be submitted on or before April 12, 2012.

ADDRESSES: The proposed settlement and additional background information relating to the settlement are available for public inspection at 1445 Ross Avenue, Dallas, Texas 75202-2733. A copy of the proposed settlement may be obtained from Cynthia Brown at, 1445 Ross Avenue, Dallas, Texas 75202-2733 or by calling (214) 665-7480. Comments should reference the Arkansas Waste to Energy Superfund Site, located in Osceola, Mississippi County, Arkansas, and EPA Docket Number 06-11-08, and should be addressed to Cynthia Brown at the address listed above.

FOR FURTHER INFORMATION CONTACT: Cynthia Brown 1445 Ross Avenue, Dallas, Texas 75202-2733 or call (214) 665-7480.

Dated: February 29, 2012.
Al Armendariz,
Regional Administrator.

[FR Doc. 2012-6026 Filed 3-12-12; 8:45 am]

BILLING CODE 6560-50-P